DEPARTMENT OF TRANSPORTATION

Federal Aviation Administration

14 CFR Part 39

[Docket No. FAA-2009-0270; Directorate Identifier 2008-NE-30-AD; Amendment 39-15865; AD 2009-07-06]

RIN 2120-AA64

Airworthiness Directives; Hamilton Sundstrand Propellers Model 568F Propellers

AGENCY: Federal Aviation Administration (FAA), Department of Transportation (DOT).

ACTION: Final rule; request for comments.

SUMMARY: The FAA is adopting a new airworthiness directive (AD) for Hamilton Sundstrand Propellers model 568F propellers with certain part number (P/N) and serial number (SN) blades. This AD requires removing affected propeller blades from service for rework. This AD results from reports of blades with corrosion pits in the tulip area of the blades. We are issuing this AD to prevent cracks from developing in the tulip area of the blade, which could result in separation of the blade and loss of airplane control.

DATES: This AD becomes effective May 1, 2009.

We must receive any comments on this AD by May 26, 2009.

ADDRESSES: Use one of the following addresses to comment on this AD:

• Federal eRulemaking Portal: Go to http://www.regulations.gov and follow the instructions for sending your comments electronically.

• Mail: U.S. Docket Management Facility, Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Contact Hamilton Sundstrand Propeller Technical Team, One Hamilton Road, Mail Stop 1-3-AB43, Windsor Locks, CT 06096-1010; fax (860) 654-5107, for the service information identified in this AD.

FOR FURTHER INFORMATION CONTACT: Terry Fahr, Aerospace Engineer, Boston Aircraft Certification Office, FAA, Engine & Propeller Directorate, 12 New England Executive Park, Burlington, MA 01803; e-mail: terry.fahr@faa.gov; telephone (781) 238-7155; fax (781) 238-7170.

SUPPLEMENTARY INFORMATION: We have received reports of corrosion on six propeller blades. A lack of adhesive and primer beyond the end of the compression wrap during manufacturing of certain serial-numbered propeller blades could result in corrosion pits developing in the tulip area of the propeller blade. This condition, if not corrected, could cause cracks in the tulip area, which could result in separation of the propeller blade and possible loss of airplane control.

FAA's Determination and Requirements of This AD

Although no airplanes that are registered in the United States use these propellers, the possibility exists that the propellers could be used on airplanes that are registered in the United States in the future. The unsafe condition described previously is likely to exist or develop on other Hamilton Sundstrand Propellers model 568F propellers of the same type design. We are issuing this AD to prevent cracks from developing in the tulip area of the blade, which could result in separation of the blade and loss of airplane control. This AD requires removing from service, Hamilton Sundstrand Propellers model 568F propellers, with a P/N and SN listed in Table 1 of this AD, within 30 days after the effective date of this AD.

FAA's Determination of the Effective Date

Since no domestic operators use this product, notice and opportunity for public comment before issuing this AD are unnecessary. Therefore, we are adopting this regulation immediately.

Comments Invited

This AD is a final rule that involves requirements affecting flight safety and was not preceded by notice and an opportunity for public comment; however, we invite you to send us any written relevant data, views, or arguments regarding this AD. Send your comments to an address listed under ADDRESSES. Include “AD Docket No. FAA-2009-0270; Directorate Identifier 2008-NE-30-AD” in the subject line of your comments. We specifically invite comments on the overall regulatory, economic, environmental, and energy aspects of the rule that might suggest a need to modify it.

We will post all comments we receive, without change, to http://www.regulations.gov, including any personal information you provide. We will also post a report summarizing each substantive verbal contact with FAA personnel concerning this AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is the same as the Mail address provided in the ADDRESSES section. Comments will be available in the AD docket shortly after receipt.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2009-07-06 Hamilton Sundstrand Corporation: Amendment 39-15865. Docket No. FAA-2009-0270; Directorate Identifier 2008-NE-30-AD.

Effective Date

(a) This airworthiness directive (AD) becomes effective May 1, 2009.

Affected ADs

(b) None.

Applicability

(c) This AD applies to Hamilton Sundstrand Propellers model 568F propellers with blades, part numbers (P/Ns) R815505R2, R815505R3, R815505R4, R815505S2, and R815505S3, that have a serial number (SN) listed in Table 1 of this AD, installed. These propellers are installed on, but not limited to, ATR-GIE Avions de Transport Regional ATR-42-400 and -500, ATR72-210A, -500, and Construcciones Aeronauticas, S.A. C-295 airplanes.

Table 1—Affected Propeller Blades by SN
31
33
34
37
40
43
105
230
259
265
277
278
403
747
1007
1031
1510
1515
1803
1813
1823
1834
1917
2072
2299
2300
2383
2459
2460
2462
2464
2469
2470
2473
2492
2510
2535
2577
2625
20010731
20010732
20010917
20020568

Unsafe Condition

(d) This AD results from reports of blades with corrosion pits in the tulip area of the blades. We are issuing this AD to prevent cracks from developing in the tulip area of the blade, which could result in separation of the blade and loss of airplane control.

Compliance

(e) You are responsible for having the actions required by this AD performed within 30 days after the effective date of this AD.

Removing Blades P/Ns R815505R2, R815505R3, R815505R4, R815505S2, and R815505S3

(f) Remove from service blades, P/Ns R815505R2, R815505R3, R815505R4, R815505S2, and R815505S3, that have a SN listed in Table 1 of this AD.

Alternative Methods of Compliance

(g) The Manager, Boston Aircraft Certification Office, has the authority to approve alternative methods of compliance for this AD if requested using the procedures found in 14 CFR 39.19.

Special Flight Permits

(h) Under 14 CFR 39.23, we will not issue any special flight permits.

Related Information

(i) Hamilton Sundstrand Alert Service Bulletin 568F-61-A47, dated September 19, 2005, pertains to the subject of this AD Contact Hamilton Sundstrand Propeller Technical Team, One Hamilton Road, Mail Stop 1-3-AB43, Windsor Locks, CT 06096-1010; fax (860) 654-5107, for a copy of this service information.

(j) Contact Terry Fahr, Aerospace Engineer, Boston Aircraft Certification Office, FAA, Engine & Propeller Directorate, 12 New England Executive Park, Burlington, MA 01803; e-mail: terry.fahr@faa.gov; telephone (781) 238-7155; fax (781) 238-7170, for more information about this AD.

Material Incorporated by Reference

(k) None.

Issued in Burlington, Massachusetts, on March 20, 2009.
Peter A. White,
Assistant Manager, Engine and Propeller Directorate, Aircraft Certification Service.

[FR Doc. E9-6876 Filed 3-26-09; 8:45 am]

BILLING CODE 4910-13-P